TENNESSEE VALLEY AUTHORITY

Sunshine Act Meeting

Agency Holding the Meeting: Tennessee Valley Authority (Meeting No. 06-06).

Time and Date: 11 a.m., October 13, 2006, TVA West Tower Auditorium, 400 West Summit Hill Drive, Knoxville, Tennessee 37902.

Status: Open.

Agenda

Old Business

Approval of minutes of September 29, 2006, Board Meeting.

New Business

1. Report of the Human Resources Committee.

A. Chief Executive Officer selection process.

2. Report of the Operations, Environment, and Safety Committee.

A. Purchase of a combustion-turbine electric-generating facility located in Marshall County, Kentucky.

For Further information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: October 6, 2006.
Maureen H. Dunn,
General Counsel and Secretary.

[FR Doc. 06-8660 Filed 10-10-06; 12:40 pm]

BILLING CODE 8120-08-P